DEPARTMENT OF DEFENSE

Office of the Secretary

Transformation Advisory Group Closed Meeting

AGENCY: Department of Defense.

ACTION: Notice of advisory committee closed meeting.

SUMMARY: Pursuant to the Federal Advisory Committee Act of 1972 (5 U.S.C. App 2, Section 1), the Sunshine in the Government Act of 1976 (5 U.S.C. 552b), and 41 CFR 102-3.150, the Department of Defense announces the following federal advisory committee closed meeting of the Transformation Advisory Group.

DATES: August 14, 2009 (8 a.m. to 5 p.m.)

ADDRESSES: Institute for Defense Analyses, 4850 Mark Center Drive, Alexandria, VA 22311.

FOR FURTHER INFORMATION CONTACT: Mr. Steven D. Behel, Designated Federal Officer, (757) 836-5365, 1562 Mitscher Ave., Suite 200, Norfolk, VA 23551-2488, steven.behel@jfcom.mil.

For supplementary information contact Mr. Floyd March, Joint Staff, (703) 697-0610.

SUPPLEMENTARY INFORMATION:

Purpose of the Meeting: The purpose of the meeting is to obtain, review and evaluate information related to scientific, technical and policy-related issues for the nation's joint enterprise, and U.S. Joint Forces Command with emphasis on how these issues relate to the shaping of the command's efforts today and in the future.

Agenda: Topics include: Joint Operating Environment, Capstone Concept for Joint Operations, and Quadrennial Defense Review Wargaming Efforts.

Meeting Accessibility: Pursuant to 5 U.S.C. 552b, and 41 CFR 102-3.155, the Department of Defense has determined that the meeting shall be closed to the public. Per delegated authority by the Chairman, Joint Chiefs of Staff, VADM Robert S. Harward, Deputy Commander, U.S. Joint Forces Command in consultation with his legal advisor, has determined in writing that the public interest requires that all sessions of this meeting be closed to the public because they will be concerned with matters listed in section 552b(c)(1) of Title 5, U.S.C.

Written Statements: Pursuant to 41 CFR 102-3.105(j) and 102-3.140, the public or interested organizations may submit written statements to the membership of the Transformation Advisory Group at any time or in response to the stated agenda of a planned meeting. Written statements should be submitted to the Transformation Advisory Group's Designated Federal Officer; the Designated Federal Officer's contact information can be obtained from the GSA's FACA Database— https://www.fido.gov/facadatabase/public.asp.

Written statements that do not pertain to a scheduled meeting of the Transformation Advisory Group may be submitted at any time. However, if individual comments pertain to a specific topic being discussed at a planned meeting then these statements must be submitted no later than 14 business days prior to the meeting in question. The Designated Federal Officer will review all submitted written statements and provide copies to all the committee members.

Dated: July 9, 2009.
Morgan E. Frazier,
Alternate OSD Federal Register Liaison Officer, Department of Defense.

[FR Doc. E9-16875 Filed 7-15-09; 8:45 am]

BILLING CODE 5001-06-P